DEPARTMENT OF THE INTERIOR

National Park Service

[NPS-ACR-NPS0039239; 5038 PPSESEROR4 PX.P0318045B.00.1; OMB Control Number 1024-NEW]

Agency Information Collection Activities; National Park Service Application for the Lower Mississippi Delta Initiative

AGENCY: National Park Service, Interior.

ACTION: Notice of information collection; request for comment.

SUMMARY: In accordance with the Paperwork Reduction Act of 1995, we, the National Park Service (NPS) are proposing a new information collection.

DATES: Interested persons are invited to submit comments, which NPS must receive on or before February 18, 2025.

ADDRESSES: Written comments and recommendations for the proposed information collection should be sent within 30 days of publication of this notice to https://www.reginfo.gov/public/do/PRAMain. Find this particular information collection by selecting “Currently under Review—Open for Public Comments” or by using the search function. Please provide a copy of your comments to Phadrea Ponds, NPS Information Collection Clearance Officer (ADIR-ICCO), 13461 Sunrise Valley Drive (MS-244) Herndon, VA 20171; or at phadrea_ponds@nps.gov (email). Please reference Office of Management and Budget (OMB) Control Number “1024-NEW (LMDI)” in the subject line of your comments.

FOR FURTHER INFORMATION CONTACT: To request additional information about this (information collection request) ICR, contact Cynthia Walton, Branch Manager, Archeological and Historic Preservation Partnerships to cynthia_walton@nps.gov (email) or at 404-354-6072 (telephone). Please reference OMB Control Number 1024-NEW (LMDI) in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 28, 2024 (89 FR 54036). No comments were received.

As part of our continuing effort to reduce paperwork and respondent burdens, we are again soliciting comments from the public and other Federal agencies on the proposed ICR that is described below. We are especially interested in public comment addressing the following issues:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under the Lower Mississippi Delta Initiatives (LMDI) (Pub. L. 103-433, title XI), the Secretary of the Interior is authorized to award grants to qualified Tribal, governmental, and non-governmental entities and individuals. The purpose of these grants is to help preserve regional culture and history and enhance educational and recreational opportunities for delta residents. Also, under LMDI, the Secretary is authorized to award grants and provide other types of technical and financial assistance to conserve and protect historic and archeological sites and structures in the delta region. The Secretary delegated these authorities to NPS.

To support grant applications, NPS requests OMB approve the following collections: 10-2020 LMDI Local Heritage Grants Application, and 10-2020A LMDI Budget and Funding Form. Both will be used by the NPS and Jefferson National Parks Association (JNPA) to determine eligibility. Grant recipients will be required to submit a midway and annual report.

Title of Collection: Application for the National Park Service Lower Mississippi Delta Initiative (LMDI).

OMB Control Number: 1024-NEW.

Form Number: 10-2020 LMDI Local Heritage Grants Application, 10-2020A LMDI Budget and Funding Form, for midway and final reports.

Type of Review: New.

Respondents/Affected Public: Tribal, State, and local, governments and non-governmental organizations.

Total Estimated Number of Annual Respondents: 116.

Total Estimated Number of Annual Responses: 116.

Estimated Completion Time per Response: 5 hours per application, and 2 hours each for the midway report and the final report.

Total Estimated Number of Annual Burden Hours: 532 hours.

Respondent's Obligation: Voluntary.

Frequency of Collection: Once per respondent.

Total Estimated Annual Nonhour Burden Cost: None.

An agency may not conduct or sponsor nor is a person required to respond to a collection of information unless it displays a currently valid OMB control number. The authority for this action is the Paperwork Reduction Act of 1995 (44 U.S.C. 3501 et seq.).

Phadrea Ponds,
Information Collection Clearance Officer, National Park Service.

[FR Doc. 2025-01229 Filed 1-16-25; 8:45 am]

BILLING CODE 4312-52-P